DEPARTMENT OF HOUSING AND URBAN DEVELOPMENT

[Docket No. FR-6465-N-02]

Announcement of the Appointment of 11 Members of the Housing Counseling Federal Advisory Committee (HCFAC)

AGENCY: Office of the Assistant Secretary for Housing—Federal Housing Commissioner, Department of Housing and Urban Development (HUD).

ACTION: Notice.

SUMMARY: This notice informs the public of members appointed or reappointed to the Department of Housing and Urban Development's (HUD) Housing Counseling Federal Advisory Committee (HCFAC) on October 16, 2024. Members are professionals from the mortgage and real estate industry, including HUD-approved housing counseling agencies, and consumers.

FOR FURTHER INFORMATION CONTACT: Virginia F. Holman, Housing Program Technical Specialist, U.S. Department of Housing and Urban Development, Office of Housing Counseling, Office of Outreach and Capacity Building, Virginia.F.Holman@hud.gov, telephone number 540-894-7790 (this is not a toll-free number). HUD welcomes and is prepared to receive calls from individuals who are deaf or hard of hearing, as well as individuals with speech and communication disabilities. To learn more about how to make an accessible telephone call, please visit: https://www.fcc.gov/consumers/guides/telecommunications-relay-service-trs. Individuals may also email HCFACCommittee@hud.gov for information.

SUPPLEMENTARY INFORMATION:

I. Background

Section 4 of the Department of Housing and Urban Development Act of 1965 (HUD Act) (42 U.S.C. 3533(g)(4)) requires the Secretary to appoint an advisory committee of not more than 12 individuals to provide advice to the Director of the Office of Housing Counseling (OHC) regarding the Housing Counseling Program. The membership of the committee must equally represent the mortgage and real estate industry, including consumers and HUD-appointed housing counseling agencies. Each member serves in his or her individual capacity for a term of up to 3 years.

HUD established the Housing Counseling Federal Advisory Committee (HCFAC) on April 14, 2015. The HFCAC provides OHC valuable advice regarding its mission to provide individuals and families with the knowledge they need to obtain, sustain, and improve their housing through a strong network of HUD-approved housing counseling agencies and HUD-certified counselors. The HCFAC, however, does not have any role in reviewing or awarding OHC housing counseling grants or procurement contracts.

The HFCAC is subject to the requirements of the Federal Advisory Committee Act (Pub. L. 92-463, 5 U.S.C. 1001 et seq.). Further information about the HFCAC is available on HUD's website at https://www.hud.gov/program_offices/housing/sfh/hcc/housing_counseling and on HUD Exchange at https://www.hudexchange.info/programs/housing-counseling/federal-advisory-committee/.

II. Current HCFAC Members

The following members have been appointed or reappointed to the HCFAC. The new members will serve three-year terms and begin their service in January 2025:

• Tamara Gifford—Director, Community and External Relations, Onity Group

• Leigh Lester—Founder and Executive Director, Ubuntu Institute of Learning

• Helene Raynaud—Senior Vice President of Housing Initiatives, Money Management International

• Elizabeth Karwowski Sdoucos—CEO and Chief Customer Officer, CredEvolv

• Hanna Tester—Homeownership Director, NeighborWorks Montana

• Carol Ventura—CEO and Executive Director, Rhode Island Housing and Mortgage Finance Corporation

• David Young—Director of Capacity Building, Housing Action Illinois

These newly appointed members are joined by the following Committee members who have been reappointed for additional three-year terms:

• Lawrence Batiste—Branch Manager and Real Estate Broker, NID Atlanta Metro Regional Office

• Carol Ann Dujanovich—Senior Vice President and Director, Reverse Mortgage Division, University Bank

• Angie Liou—Executive Director, Asian Community Development Corporation

• Paul Yorkis—President, Patriot Real Estate, Inc.

Sherri Eckles, who was appointed in June 2023 and is Senior Vice President of the Renovation and Construction Lending Programs at Norcom Mortgage, will also continue to serve on the Committee.

Jeffrey D. Little,
General Deputy Assistant Secretary, Office of Housing.

[FR Doc. 2024-26444 Filed 11-13-24; 8:45 am]

BILLING CODE 4210-67-P